DEPARTMENT OF ENERGY

Federal Energy Regulatory Commission

Notice of Intent to File Application for a New License

January 9, 2003.

Take notice that the following notice of intent has been filed with the Commission and is available for public inspection:

a. Type of filing: Notice of Intent to File an Application for New License.

b. Project No: 2230.

c. Date filed: November 13, 2002.

d. Submitted By: City and Borough of Sitka, Alaska.

e. Name of Project: Blue Lake Hydroelectric Project.

f. Location: The Blue Lake project is located 5 miles east of the City of Sitka, on Sawmill Creek (formerly Medvetcha River) at stream mile 2.7.

g. Filed Pursuant to: Section 15 of the Federal Power Act, 18 CFR 16.6.

h. Pursuant to Section 16.19 of the Commission's regulations, the licensee is required to make available the information described in Section 16.7 of the regulations. Such information is available from the licensee at the City and Borough of Sitka, 105 Jarvis Street, Sitka, Alaska 99835, (907) 747-6633.

i. FERC Contact: Nicholas Jayjack, 202-502-6073, Nicholas.Jayjack@ferc.gov.

j. Expiration Date of Current License: March 31, 2008.

k. Project Description: The project includes a 211-foot high dam with a crest length of 256 feet, a submerged concrete intake structure, a 1,225-acre reservoir (Blue Lake), a 7,110-foot long power conduit consisting of both steel penstock and unlined tunnel segments, three powerhouses with a combined capacity of 7.5 megawatts, and three transmission lines with a combined length of 6.5 miles. The project occupies 812 acres of U.S. lands administered by the U.S. Forest Service.

l. The licensee states its unequivocal intent to submit an application for a new license for Project No. 2230. Pursuant to 18 CFR 16.9(b)(1), each application for a new license and any competing license applications must be filed with the Commission at least 24 months prior to the expiration of the existing license. All applications for license for this project must be filed by March 31, 2006.

A copy of the application is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. A copy is also available for inspection and reproduction at the address in item h above.

Magalie R. Salas,
Secretary.

[FR Doc. 03-888 Filed 1-14-03; 8:45 am]

BILLING CODE 6717-01-P